DEPARTMENT OF HOMELAND SECURITY

Coast Guard

33 CFR Part 165

[CGD09-01-002]

RIN 1625-AA00

Safety Zone; Captain of the Port Detroit Zone

AGENCY: Coast Guard, DHS.

ACTION: Notice of implementation of regulation.

SUMMARY: The Coast Guard is implementing safety zones for annual fireworks displays in the Captain of the Port Detroit Zone during June 2003. This action is necessary to provide for the safety of life and property on navigable waters during these events. These zones will restrict vessel traffic from a portion of the Captain of the Port Detroit Zone.

DATES: Effective from 9 p.m. (Eastern Time) on June 23, 2003 to 11 p.m. (Eastern Time) on June 29, 2003.

FOR FURTHER INFORMATION CONTACT: Lieutenant Junior Grade Brandon Sullivan, U.S. Coast Guard Marine Safety Office, Detroit, MI at (313) 568-9580.

SUPPLEMENTARY INFORMATION: The Coast Guard is implementing the permanent safety zones in 33 CFR 165.907 (66 FR 27868, May 21, 2001), for fireworks displays in the Captain of the Port Detroit Zone during June 2003. The following safety zones are in effect for fireworks displays occurring in the month of June 2003:

(1) Bay-Rama Fishfly Festival, New Baltimore, MI. Location. All waters off New Baltimore City Park, Lake St. Clair-Anchor Bay bounded by the arc of a circle with a 300-yard radius with its center located at approximate position 42°41′ N, 082°44′ W (NAD 83).

Enforcement period. June 26, 2003, from 9 p.m. to 11 p.m.

(2) St. Clair Shores Fireworks, St. Clair Shores, MI. Location. All waters of Lake St. Clair within a 300-yard radius of the fireworks barge in approximate position 42°32′ N, 082°51′ W, about 1000 yards east of Veterans Memorial Park (off Masonic Rd.), St. Clair Shores, MI (NAD 83).

Enforcement period. June 27, 2003, from 10 p.m. to 11 p.m.

(3) Port Huron 4th of July Fireworks, Port Huron, MI. Location. All waters of the Black River within a 300 yard radius of the fireworks barge in approximate position 42°58′ N, 082°25′ W about 300 yards east of 223 Huron Ave., in the Black River (NAD 83).

Enforcement period. June 29, 2003, from 10 p.m. until 11 p.m.

(4) Sigma Gamma Assoc., Grosse Pointe Farms, MI.

Location. The waters off Ford's Cove, Lake St. Clair bounded by the arc of a circle with a 300-yard radius with its center in approximate position 42°27′ N, 082°52′ W (NAD 83).

Enforcement period. June 23, 2003 from 9 p.m. to 10 p.m.

In order to ensure the safety of spectators and transiting vessels, these safety zones will be in effect for the duration of the events. In cases where shipping is affected, commercial vessels may request permission from the Captain of the Port Detroit to transit the safety zone. Approval will be made on a case-by case basis. Requests must be made in advance and approved by the Captain of Port before transits will be authorized. The Captain of the Port may be contacted via U.S. Coast Guard Group Detroit on channel 16, VHF-FM.

Dated: May 9, 2003.
Patrick G. Gerrity,
Commander, U.S. Coast Guard, Captain of the Port Detroit.

[FR Doc. 03-12498 Filed 5-19-03; 8:45 am]

BILLING CODE 4910-15-P